DEPARTMENT OF TRANSPORTATION

Federal Aviation Administration

14 CFR Part 97

[Docket No. 30944; Amdt. No. 3578]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 5, 2014. The compliance date for each SIAP, associated Takeoff Minimums, and ODP is specified in the amendatory provisions.

The incorporation by reference of certain publications listed in the regulations is approved by the Director of the Federal Register as of March 5, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420)Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on January 31, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§§ 97.23, 97.25, 97.27, 97.29, 97.31, 97.33, 97.35 [Amended]

2. Part 97 is amended to read as follows:

By amending: 597.23 VOR, VOR/DME, VOR or TACAN, and VOR/DME or TACAN; 597.25 LOC, LOC/DME, LDA, LDA/DME, SDF, SDF/DME; 597.27 NDB, NDB/DME; 597.29 ILS, ILS/DME, MLS, MLS/DME, MLS/RNAV; 597.31 RADAR SIAPs; 597.33 RNAV SIAPs; and 597.35 COPTER SIAP, Identified as follow:

Effection Upon Publication

AIRAC Date | State | City | Airport | FDC No. | FDC Date | Subject
2/6/2014 | NY | New York | La Guardia | 3/0566 | 12/24/13 | This NOTAM, published in TL 14-04, is hereby rescinded in its entirety.
3/6/2014 | OR | Sunriver | Sunriver | 3/0064 | 01/22/14 | RNAV (GPS) RWY 18, Orig-B.
3/6/2014 | OR | Sunriver | Sunriver | 3/0065 | 01/22/14 | VOR/DME RWY 18, Amdt 1A.
3/6/2014 | CA | Red Bluff | Red Bluff/Muni | 3/0071 | 01/24/14 | VOR RWY 33, Amdt 8.
3/6/2014 | NJ | Teterboro | Teterboro | 3/0555 | 01/22/14 | VOR/DME A, Amdt 2C.
3/6/2014 | KS | Stockton | Rooks County | 3/0963 | 01/22/14 | RNAV (GPS) RWY 18, Orig.
3/6/2014 | KS | Stockton | Rooks County | 3/0964 | 01/22/14 | RNAV (GPS) RWY 36, Orig.
3/6/2014 | AZ | Nogales | Nogales Intl | 3/1229 | 01/22/14 | NDB OR GPS C, Amdt 2A.
3/6/2014 | CA | Santa Rosa | Charles M. Schulz—Sonoma County | 3/1986 | 01/22/14 | RNAV (GPS) RWY 32, Orig.
3/6/2014 | CO | Kremmling | McElroy Airfield | 3/2514 | 01/24/14 | GPS RWY 27, Orig.
3/6/2014 | CA | Hanford | Hanford Nuni | 3/4969 | 01/22/14 | VOR A, Amdt 9A.
3/6/2014 | KY | Springfield | Lebanon-Springfield | 3/5406 | 01/22/14 | RNAV (GPS) RWY 11, Orig.
3/6/2014 | KY | Springfield | Lebanon-Springfield | 3/5408 | 01/22/14 | RNAV (GPS) RWY 29, Orig.
3/6/2014 | ME | Machias | Machias Valley | 3/5409 | 01/22/14 | RNAV (GPS) RWY 36, Orig.-A.
3/6/2014 | KY | Springfield | Lebanon-Springfield | 3/5411 | 01/22/14 | VOR/DME RWY 11, Amdt 4.
3/6/2014 | MS | West Point | McCharen Field | 3/5427 | 01/22/14 | Takeoff Minimums and (Obstacle) DP, Amdt 1.
3/6/2014 | FL | Ormond Beach | Ormond Beach Muni | 3/5583 | 01/22/14 | VOR RWY 17, Amdt 2.
3/6/2014 | PA | Pittsburgh | Pittsburgh Intl | 3/6089 | 01/22/14 | RNAV (GPS) Y RWY 32, Amdt 5.
3/6/2014 | IN | Auburn | DeKalb County | 3/6405 | 01/22/14 | RNAV (GPS) RWY 27, Orig-A.
3/6/2014 | IN | Auburn | DeKalb County | 3/6407 | 01/22/14 | RNAV (GPS) RWY 9, Orig-A.
3/6/2014 | MT | Colstrip | Colstrip | 3/6585 | 01/24/14 | GPS RWY 6, Orig-B.
3/6/2014 | MT | Colstrip | Colstrip | 3/6586 | 01/24/14 | GPS RWY 24, Orig-A.
3/6/2014 | CO | Denver | Rocky Mountain Metropolitan | 3/6616 | 01/24/14 | VOR/DME RWY 29L/R, Orig-B.
3/6/2014 | NV | Winnemucca | Winnemucca Muni | 3/7889 | 01/22/14 | VOR/DME RWY 14, Orig.
3/6/2014 | KS | St Francis | Cheyenne County Muni | 3/8335 | 01/24/14 | NDB OR GPS RWY 32, Amdt 1.
3/6/2014 | CA | Bishop | Eastern Sierra Rgnl | 3/9314 | 01/22/14 | LDA/DME RWY 16, Orig.
3/6/2014 | CA | Bishop | Eastern Sierra Rgnl | 3/9315 | 01/22/14 | VOR OR GPS A, Amdt 6.
3/6/2014 | CA | Bishop | Eastern Sierra Rgnl | 3/9316 | 01/22/14 | RNAV (RNP), RWY 30, Orig-A.
3/6/2014 | WA | Seattle | Seattle-Tacoma Intl | 3/9353 | 01/22/14 | RNAV (GPS) Y RWY 34R, Amdt 2.
3/6/2014 | CA | San Diego | San Diego Intl | 3/9779 | 01/22/14 | LOC RWY 27, Amdt 5.
3/6/2014 | SC | Cheraw | Cheraw Muni/Lynch Bellinger Field | 4/0203 | 01/27/14 | RNAV (GPS) RWY 26, AMDT 1.
3/6/2014 | SC | Cheraw | Cheraw Muni/Lynch Bellinger Field | 4/0204 | 01/27/14 | VOR/DME RWY 8, Amdt 3.
3/6/2014 | RI | Pawtucket | North Central State | 4/0213 | 01/24/14 | VOR A, Amdt 7.
3/6/2014 | RI | Pawtucket | North Central State | 4/0214 | 01/24/14 | LOC RWY 5, Amdt 7.
3/6/2014 | RI | Pawtucket | North Central State | 4/0215 | 01/24/14 | VOR B, Amdt 7.
3/6/2014 | IA | Carroll | Arthur N Neu | 4/0236 | 01/24/14 | RNAV (GPS) RWY 13 Amdt 1.
3/6/2014 | IA | Carroll | Arthur N Neu | 4/0237 | 01/24/14 | RNAV (GPS) RWY 31 Amdt 1.
3/6/2014 | ND | Devils Lake | Devils Lake Rgnl | 4/0477 | 01/24/14 | VOR RWY 31, Amdt 1.
3/6/2014 | ND | Devils Lake | Devils Lake Rgnl | 4/0496 | 01/24/14 | ILS OR LOC/DME RWY 31, Amdt 3.
3/6/2014 | ND | Devils Lake | Devils Lake Rgnl | 4/0497 | 01/24/14 | RNAV (GPS) RWY 31, Amdt 1.
3/6/2014 | ND | Devils Lake | Devils Lake Rgnl | 4/0498 | 01/24/14 | VOR RWY 13, Amdt 1.
3/6/2014 | ND | Devils Lake | Devils Lake Rgnl | 4/0499 | 01/24/14 | RNAV (GPS) RWY 3, Amdt 2.
3/6/2014 | OK | Ardmore | Ardmore Muni | 4/0504 | 01/27/14 | VOR B, Amdt 1.
3/6/2014 | ND | Devils Lake | Devils Lake Rgnl | 4/0506 | 01/24/14 | RNAV (GPS) RWY 13, Amdt 1.
3/6/2014 | ND | Devils Lake | Devils Lake Rgnl | 4/0507 | 01/24/14 | RNAV (GPS) RWY 21, Amdt 1.
3/6/2014 | ND | Devils Lake | Devils Lake Rgnl | 4/0508 | 01/24/14 | VOR RWY 3, Orig.
3/6/2014 | WI | Chetek | Chetek Muni-Southworth | 4/0542 | 01/24/14 | Takeoff Minimums and (Obstacle) DP, Orig.
3/6/2014 | NM | Silver City | Grant County | 4/0803 | 01/24/14 | RNAV (GPS) RWY 8, Orig.
3/6/2014 | NM | Silver City | Grant County | 4/0806 | 01/24/14 | RNAV (GPS) RWY 26, Orig-A.
3/6/2014 | NM | Silver City | Grant County | 4/0807 | 01/24/14 | LOC/DME RWY 26, Amdt 5A.
3/6/2014 | NM | Silver City | Grant County | 4/0808 | 01/24/14 | VOR/DME-B, Amdt 3A.
3/6/2014 | NM | Silver City | Grant County | 4/0809 | 01/24/14 | VOR-A, Amdt 7A.
3/6/2014 | PA | Philadelphia | Philadelphia Intl | 4/1177 | 01/24/14 | CONVERGING ILS RWY 9R, Amdt 4.
3/6/2014 | PA | Philadelphia | Philadelphia Intl | 4/1180 | 01/24/14 | CONVERGING ILS RWY 17, Amdt 6.
3/6/2014 | AR | Little Rock | Bill And Hillary Clinton National/Adams Field | 4/1344 | 01/24/14 | RNAV (GPS) RWY 18, Amdt 1B.
3/6/2014 | MI | Romeo | Romeo State | 4/1493 | 01/27/14 | RNAV (GPS) RWY 36, Amdt 1.
3/6/2014 | TX | Mineola/Quitman | Wood County | 4/1937 | 01/24/14 | RNAV (GPS) RWY 36, Orig.
3/6/2014 | TX | Mineola/Quitman | Wood County | 4/1938 | 01/24/14 | RNAV (GPS) RWY 18, Orig.
3/6/2014 | TX | Mineola/Quitman | Wood County | 4/1939 | 01/24/14 | VOR/DME B, Amdt 2.
3/6/2014 | NC | Whiteville | Columbus County Muni | 4/2073 | 01/27/14 | RNAV (GPS) RWY 6, Orig.
3/6/2014 | NC | Whiteville | Columbus County Muni | 4/2074 | 01/27/14 | NDB RWY 6, Amdt 5.
3/6/2014 | NC | Erwin | Harnett Rgnl Jetport | 4/2075 | 01/27/14 | VOR/DME RWY 5, Amdt 2A.
3/6/2014 | FL | Lake Wales | Lake Wales Muni | 4/2079 | 01/24/14 | RNAV (GPS) RWY 6, Orig.
3/6/2014 | PA | Harrisburg | Harrisburg Intl | 4/2081 | 01/24/14 | ILS OR LOC RWY 31, Amdt 1A.
3/6/2014 | MN | Orr | Orr Rgnl | 4/2151 | 01/24/14 | NDB RWY 13, Amdt 8.
3/6/2014 | NY | New York | La Guardia | 4/2156 | 01/27/14 | RNAV (GPS) RWY 31, Amdt 1B.
3/6/2014 | NY | New York | La Guardia | 4/2158 | 01/27/14 | RNAV (GPS) RWY 13, Amdt 1A.
3/6/2014 | GA | Cartersville | Cartersville | 4/2456 | 01/24/14 | LOC RWY 19, Amdt 3.
3/6/2014 | OH | Sebring | Tri-City | 4/2492 | 01/24/14 | VOR OR GPS RWY 17, Amdt 3B.
3/6/2014 | FL | Winter Haven | Winter Haven's Gilbert | 4/2495 | 01/24/14 | RNAV (GPS) RWY 5, Amdt 1.
3/6/2014 | MA | Falmouth | Cape Cod Coast Guard Air Station | 4/2615 | 01/24/14 | TACAN RWY 32, Orig.
3/6/2014 | MA | Falmouth | Cape Cod Coast Guard Air station | 4/2616 | 01/24/14 | TACAN RWY 23, Orig.
3/6/2014 | MA | Falmouth | Cape Cod Coast Guard Air Station | 4/2617 | 01/24/14 | NDB RWY 23, Orig.
3/6/2014 | MA | Falmouth | Cape Cod Coast Guard Air Station | 4/2618 | 01/24/14 | ILS OR LOC RWY 23, Amdt 1.
3/6/2014 | FL | Jacksonville | Jacksonville Intl | 4/2620 | 01/27/14 | VOR/DME RWY 32, Amdt 2.
3/6/2014 | MS | Holly Springs | Holly Springs-Marshall County | 4/2693 | 01/24/14 | Takeoff Minimums and (Obstacle) DP, Amdt 1.
3/6/2014 | IN | Bedford | Virgil I Grissom Muni | 4/2725 | 01/27/14 | VOR/DME RWY 13, Amdt 10A.
3/6/2014 | MN | Mora | Mora Muni | 4/2726 | 01/27/14 | NDB OR GPS RWY 35, Amdt 3A.
3/6/2014 | OK | Enid | Enid Woodring Rgnl | 4/2748 | 01/24/14 | RNAV (GPS) RWY 35, Orig-A.
3/6/2014 | OK | Enid | Enid Woodring Rgnl | 4/2749 | 01/24/14 | ILS OR LOC RWY 35, Amdt 5B
3/6/2014 | SC | Greenville | Greenville Downtown | 4/2967 | 01/24/14 | ILS OR LOC RWY 1, Amdt 29A.
3/6/2014 | SC | Greenville | Greenville Downtown | 4/2968 | 01/24/14 | RNAV (GPS) RWY 1, Orig-A.
3/6/2014 | SC | Greenville | Greenville Downtown | 4/2969 | 01/24/14 | NDB RWY 1, Amdt 22A.
3/6/2014 | SC | Greenville | Greenville Downtown | 4/2970 | 01/24/14 | RNAV (GPS) RWY 19, Orig-A.
3/6/2014 | SC | Greenville | Greenville Downtown | 4/2971 | 01/24/14 | RNAV (GPS) RWY 10, Orig-A.
3/6/2014 | SC | Greenville | Greenville Downtown | 4/2972 | 01/24/14 | RADAR-1, Amdt 13A.
3/6/2014 | ME | Norridgewock | Central Maine Arpt Of Norridgewock | 4/2986 | 01/24/14 | VOR/DME RWY 3, Amdt 2A.
3/6/2014 | MI | Escanaba | Delta County | 4/3036 | 01/30/14 | RNAV (GPS) RWY 36, Orig.
3/6/2014 | SC | Orangeburg | Orangeburg Muni | 4/4151 | 01/27/14 | RNAV (GPS) RWY 17, Orig.
3/6/2014 | NY | Lake Placid | Lake Placid | 4/4675 | 01/28/14 | RNAV (GPS) A, Orig-A.
3/6/2014 | NY | Lake Placid | Lake Placid | 4/4676 | 01/28/14 | RNAV (GPS) RWY 14, Orig.
3/6/2014 | MN | Orr | Orr Rgnl | 4/4935 | 01/29/14 | RNAV (GPS) RWY 13, Orig.
3/6/2014 | ND | Devils Lake | Devils Lake Rgnl | 4/4936 | 01/29/14 | VOR RWY 21, Orig.

[FR Doc. 2014-04300 Filed 3-4-14; 8:45 am]

BILLING CODE 4910-13-P